DEPARTMENT OF HEALTH AND HUMAN SERVICES

Administration for Children and Families

Submission for OMB Review; Comment Request

Title: Disaster Information Collection Form.

OMB No.: 0970-NEW.

Description: This is a request by the Administration for Children and Families (ACF) for a generic clearance for the Disaster Information Collection Form. An approval for a generic clearance is being requested because each of the thirteen program offices within ACF has a slightly different need for information about program impact information collection during a disaster.

ACF oversees more than 60 programs that affect the normal day to day operations of families, children, individuals and communities in the United States. Many of these programs encourage grantees or state administrators to develop emergency preparedness plans, but do not have statutory authority to require these plans be in place. ACF facilitates the inclusion of emergency preparedness planning and training efforts for ACF programs.

Presidential Policy Directive-8 (PPD-8) provides federal guidance and planning procedures under established phases—protection, preparedness, response, recovery, and mitigation. The Disaster Information Collection Forms addressed in this clearance process provide assessment of ACF programs in disaster response, and recovery.

ACF/Office of Human Services Emergency Preparedness and Response (OHSEPR) has a requirement under PPD-8, the National Response Framework, and the National Disaster Recovery Framework to report disaster impacts to ACF-supported human services programs to the HHS Secretary's Operation Center (SOC) and interagency partners. ACF/OHSEPR works in partnership with the Assistant Secretary for Preparedness and Response (ASPR), and the Federal Emergency Management Agency (FEMA) to report assessments of disaster impacted ACF programs and the status of continuity of services and recovery.

Respondents: State administrators, and/or ACF grantees.

Annual Burden Estimates
[The burden cap for the Disaster Information Collection Form is estimated based on a single disaster per year. The estimate is for approximately 10 state administrators, or grantees to go through all of the applicable questions with the Regional and Central Office staff. Some ACF programs have more questions and may have more respondents.]
Instrument | Number of respondents | Number of responses per respondent | Burden hours per response | Total burden hours
Disaster Information Collection Form | 10 | 15 | 0.08 hours (5 minutes) | 1.25 hours (75 minutes).

An estimate of the number of disasters that would warrant data collection is difficult to calculate due to the unpredictable nature of disasters. For example, in 2012, there were 95 disasters nationwide but OHSEPR did not collect data on all of them because they had minimal effects on ACF programs.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV.

Attn: Desk Officer for the Administration for Children and Families.

Robert Sargis,
Reports Clearance Officer.

[FR Doc. 2016-03455 Filed 2-19-16; 8:45 am]

BILLING CODE 4184-01-P